DEPARTMENT OF JUSTICE

Antitrust Division

Notice Pursuant to the National Cooperative Research and Production Act of 1993—the Society for Biomolecular Screening, Inc. (“SBS”)

Notice is hereby given that, on September 1, 2004, pursuant to section 6(a) of the National Cooperative Research and Production Act of 1993, 15 U.S.C. 4301 et seq. (“the Act”), The Society for Biomolecular Screening, Inc. (“SBS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances. Pursuant to section 6(b) of the Act, the name and principal place of business of the standards development organization is: The Society for Biomolecular Screening, Inc. Danbury, CT. The nature and scope of SBS' standard development activities are: Many science-based industries have implemented a High Throughput Screening (HTS) approach for discovery activities. HTS requires that automated devices and full robotic systems be used for this work. These devices and systems cost from tens of thousands of dollars to millions of dollars. The basic tool for this work is the microtiter plate (MTP) and as such, it is economically critical that these devices/systems work in a seamless manner with this tool as supplied by different manufacturers. However, each manufacturer had originally developed MTPs with slightly different dimensions and features to the extent that these plates performed poorly with automation. Laboratory users found it frustrating to try to use different plates with their equipment and often experienced significant financial losses when doing so. Manufacturers of automated devices tried to build in features that allowed for defining different plates from different manufacturers but there was only so much variation that could be accommodated and these changes were driving costs upwards. In 1995, The Society for Biomolecular Screening, Inc. formed a working group that brought together all of the interested parties, (manufacturers of MTPs, automated device manufacturers and users) to establish standards for microtiter plates that would provide reliable use with all automated equipment and robotics. These standards need to address the various densities of the MTP including 96, 384, and 1536 since it would be expected that the same equipment could work with various formats but not necessarily all formats to contains costs.

Dorothy B. Fountain,
Deputy Director of Operations, Antitrust Division.

[FR Doc. 04-22158 Filed 10-1-04; 8:45 am]

BILLING CODE 4410-11-M